PENSION BENEFIT GUARANTY CORPORATION

29 CFR Parts 4001, 4901, and 4902

[Docket No. FR Doc E9-13323]

Disclosure and Amendment of Records Pertaining to Individuals Under the Privacy Act

AGENCY: Pension Benefit Guaranty Corporation.

ACTION: Final rule; correction.

SUMMARY: The Pension Benefit Guaranty Corporation (PBGC) is correcting a final rule that appeared in the Federal Register of June 8, 2009 (74 FR 27080). The document amends PBGC's regulation on Disclosure and Amendment of Records Pertaining to Individuals Under the Privacy Act.

DATES: Effective July 8, 2009.

FOR FURTHER INFORMATION CONTACT: Margaret E. Drake, Attorney, Office of the General Counsel, Pension Benefit Guaranty Corporation, 1200 K Street, NW., Washington, DC 20005-4026; 202-326-4400 (extension 3228). TTY/TDD users may call the Federal relay service toll-free at 1-800-877-8339 and ask to be connected to 202-326-4400 (extension 3228).

SUPPLEMENTARY INFORMATION: In FR Doc. E9-13323 published on June 8, 2009 (74 FR 27080) the following corrections are made:

1. On page 27081, in the first column, in the preamble text under the heading Regulatory Changes, the last sentence of the first paragraph is corrected to read as follows: “PBGC received no comments on the proposed rule and the final regulation is unchanged from the proposed regulation, except that under the final regulation, an appeal from a denial of a request for amendment of a record maintained by the Office of the General Counsel will be handled by the Director or the Director's designee.

2. On page 27081, in the first column, in the preamble text under the heading Regulatory Changes, the last sentence of the third paragraph is corrected to read as follows: “PBGC also is replacing all references to the term “Deputy Executive Director” in part 4902 with the term “Director or Director's designee”.

§ 4902.7 [Corrected]

3. On page 27082, in the first column, in PART 4902—DISCLOSURE AND AMENDMENT OF RECORDS PERTAINING TO INDIVIDUALS UNDER THE PRIVACY ACT, amendment 12 is corrected to read as follows:

“12. Section 4902.7 is amended:

a. In paragraph (a), by removing the words “Deputy Executive Director” and adding in their place “Director or Director's designee”; and

b. In paragraph (b) by removing the words “the Executive Director” and adding in their place “the Director”, and by removing the words “Deputy Executive Director” wherever they appear, and adding in their place “Director or Director's designee”.”

Issued in Washington, DC, this 22nd day of June 2009.
Vincent K. Snowbarger,
Acting Director, Pension Benefit Guaranty Corporation.

[FR Doc. E9-14975 Filed 6-24-09; 8:45 am]

BILLING CODE 7709-01-P